DEPARTMENT OF JUSTICE

Notice of Lodging of Proposed Consent Decree Under the Clean Air Act

On July 31, 2017, the Department of Justice lodged a proposed Consent Decree with the United States District Court for the District of Kansas in the lawsuit entitled United States v. Harcros Chemicals Inc., Civil Action No. 2: 17-cv-2432.

The United States, on behalf of the United States Environmental Protection Agency, filed a complaint against Harcros Chemicals Inc. (“Harcros”) seeking injunctive relief and the imposition of civil penalties for violations of Section 112(r) of the Clean Air Act in connection with three of Harcros' chemical manufacturing, repacking, blending, storage, and distribution facilities located in Shreveport, Louisana, Kansas City, Kansas, and Bessemer, Alabama. The proposed Consent Decree concerns those facilities and twenty-six additional Harcros facilities located in the States of Alabama, Arkansas, Colorado, Florida, Georgia, Illinois, Iowa, Kansas, Louisiana, Maine, Minnesota, Mississippi, Missouri, Nebraska, New Hampshire, Oklahoma, North Carolina, Tennessee, and Texas. The Consent Decree requires Harcros to audit its facilities for compliance with Section 112(r) of the Clean Air Act and to correct any discovered violations of these requirements. The Consent Decree also requires Harcros to pay a cash civil penalty of $950,000 for the violations alleged in the complaint, as well as for violations of Section 112(r) expected to be uncovered at other facilities. The Consent Decree also requires Harcros to perform a Supplemental Environmental Project to enhance its fire-prevention capability at eight of its facilities.

The publication of this notice opens a period for public comment on the Consent Decree. Comments should be addressed to the Assistant Attorney General, Environment and Natural Resources Division, and should refer to United States v. Harcros Chemicals Inc., D.J. Ref. No. 90-5-2-1-11461. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $19.00 (25 cents per page reproduction cost) payable to the United States Treasury. For a paper copy without the exhibits and signature pages, the cost is $10.75.

Susan M. Akers,
Assistant Section Chief, Environmental Enforcement Section, Environment and Natural Resources Division.

[FR Doc. 2017-16369 Filed 8-2-17; 8:45 am]

BILLING CODE 4410-15-P